ENVIRONMENTAL PROTECTION AGENCY

[EPA-HQ-OECA-2014-0103; FRL—9932-38-OEI]

Information Collection Request Submitted to OMB for Review and Approval; Comment Request; NSPS for Nitric Acid Plants for Which Construction, Reconstruction or Modification Commenced After October 14, 2011 (Renewal)

AGENCY: Environmental Protection Agency (EPA).

ACTION: Notice.

SUMMARY: The Environmental Protection Agency has submitted an information collection request (ICR), “NSPS for Nitric Acid Plants for which Construction, Reconstruction or Modification Commenced after October 14, 2011 (40 CFR part 60, subpart Ga) (Renewal)” (EPA ICR No. 2445.03, OMB Control No. 2060-0674), to the Office of Management and Budget (OMB) for review and approval in accordance with the Paperwork Reduction Act (44 U.S.C. 3501 et seq.). This is a proposed extension of the ICR, which is currently approved through August 31, 2015. Public comments were previously requested via the Federal Register (79 FR 30117) on May 27, 2014 during a 60-day comment period. This notice allows for an additional 30 days for public comments. A fuller description of the ICR is given below, including its estimated burden and cost to the public. An Agency may neither conduct nor sponsor and a person is not required to respond to, a collection of information unless it displays a currently valid OMB control number.

DATES: Additional comments may be submitted on or before September 14, 2015.

ADDRESSES: Submit your comments, referencing Docket ID Number EPA-HQ-OECA-2014-0103, to (1) EPA online using www.regulations.gov (our preferred method), or by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The NSPS for nitric acid plants (40 CFR part 60, subpart G) were proposed on August 17, 1971, and promulgated on June 14, 1974. This information collection is for a new Subpart Ga, which will apply to nitric acid production units which commence construction, modification, or reconstruction after October 14, 2011. Nitrogen oxide (NOX) is the pollutant regulated under this subpart. The standards limit nitrogen oxides, expressed as nitrogen dioxide (NO2), to 0.50 lb per ton of 100 percent nitric acid produced.

Form Numbers: None.

Respondents/affected entities: Nitric acid plants constructed, reconstructed or modified after October 14, 2011.

Respondent's obligation to respond: Mandatory (40 CFR part 60, subpart Ga).

Estimated number of respondents: 6 (total).

Frequency of response: Initially and occasionally.

Total estimated burden: 1,370 hours (per year). Burden is defined at 5 CFR 1320.3(b).

Total estimated cost: $386,000 (per year), which includes $248,000 in both annualized capital and operation & maintenance costs.

Changes in the Estimates: There is an adjustment increase in the respondent and Agency burden due to an increase in the estimated number of sources. Our research during the rule development indicated an average of 1.2 new sources per year will become subject to the rule. We assume the industry will continue to grow linearly at this rate. This also results in an increase in annual O&M costs.

Courtney Kerwin,
Acting-Director, Collection Strategies Division.

[FR Doc. 2015-19936 Filed 8-12-15; 8:45 am]

BILLING CODE 6560-50-P